DEPARTMENT OF DEFENSE

Defense Acquisition Regulations System

48 CFR Chapter 2

RIN 0750-AE73

Defense Federal Acquisition Regulation Supplement; Material Inspection and Receiving Report (DFARS Case 2003-D085)

AGENCY: Defense Acquisition Regulations System, Department of Defense (DoD).

ACTION: Final rule.

SUMMARY: DoD has issued a final rule amending the Defense Federal Acquisition Regulation Supplement (DFARS) to clarify requirements for preparation of material inspection and receiving reports under DoD contracts. In addition, the rule relocates text to the DFARS companion resource, Procedures, Guidance, and Information.

DATES: Effective Date: December 19, 2006.

FOR FURTHER INFORMATION CONTACT: Ms. Robin Schulze, Defense Acquisition Regulations System, OUSD (AT&L) DPAP (DARS), IMD 3C132, 3062 Defense Pentagon, Washington, DC 20301-3062. Telephone (703) 602-0326; facsimile (703) 602-0350. Please cite DFARS Case 2003-D085.

SUPPLEMENTARY INFORMATION:

A. Background

This final rule updates DFARS Appendix F requirements for preparation of DD Form 250, Material Inspection and Receiving Report. The changes to Appendix F include —

○ Clarification of requirements for marking of shipments when a contractor's certificate of conformance is used as the basis for acceptance;

○ Relocation of the requirement for the contractor to provide sufficient copies of DD Form 250, from F-701 to F-103; and

○ Deletion of procedures for documenting Government contract quality assurance performed at a subcontractor's facility and for distribution and correction of DD Form 250-1 documents. This text has been relocated to the DFARS companion resource, Procedures, Guidance, and Information (PGI), at http://www.acq.osd.mil/dpap/dars/pgi.

DoD published a proposed rule at 70 FR 39975 on July 12, 2005. One respondent submitted comments on the proposed rule. The respondent recommended revision of Appendix F and the clause at DFARS 252.246-7000, Material Inspection and Receiving Report, to clarify that contractors are required to include a copy of the receiving report (either the paper DD Form 250 or the Wide Area WorkFlow-Receipt and Acceptance (WAWF-RA) receiving report) with the shipment. As a result of this comment, the proposed change to F-401(a), which stated that use of WAWF-RA satisfies DD Form 250 distribution requirements, has been excluded from this final rule; and DoD published another proposed rule at 71 FR 65769 on November 9, 2006, to request comments on the recommended revision.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule makes no significant change to DoD policy for the preparation and use of material inspection and receiving reports.

C. Paperwork Reduction Act

The information collection requirements of DD Form 250, Material Inspection and Receiving Report, have been approved by the Office of Management and Budget under Control Number 0704-0248, for use through March 31, 2008.

List of Subjects in 48 CFR Chapter 2

Government procurement.

Michele P. Peterson,
Editor, Defense Acquisition Regulations System.

Therefore, 48 CFR Appendix F to Chapter 2 is amended as follows:

1. The authority citation for 48 CFR Appendix F to subchapter I continues to read as follows:

Authority: 41 U.S.C. 421 and 48 CFR Chapter 1.

Appendix F to Chapter 2—Material Inspection and Receiving Report

2. Appendix F to Chapter 2 is amended in Part 1, Section F-103, by revising paragraph (c) to read as follows:

F-103 Use.

* * * * *

(c) The contractor prepares the MIRR, except for entries that an authorized Government representative is required to complete. The contractor shall furnish sufficient copies of the completed form, as directed by the Government representative.

* * * * *

3. Appendix F to Chapter 2 is amended by revising Part 2 to read as follows:

PART 2—CONTRACT QUALITY ASSURANCE ON SHIPMENTS BETWEEN CONTRACTORS

F-201 Procedures.

Follow the procedures at PGI F-201 for evidence of required Government contract quality assurance at a subcontractor's facility.

4. Appendix F to Chapter 2 is amended in Part 3, Section F-301, by revising paragraph (b)(21)(iii) in the first sentence and paragraph (b)(21)(iv)(D) introductory text to read as follows:

F-301 Preparation instructions.

* * * * *

(b) * * *

(21) * * *

(iii) When contract terms provide for use of Certificate of Conformance and shipment is made under these terms, the contractor shall enter in capital letters “CERTIFICATE OF CONFORMANCE” in Block 21a on the next line following the CQA and acceptance statements. * * *

(iv) * * *

(D) When Certificate of Conformance procedures apply, inspection or inspection and acceptance are at source, and the contractor's Certificate of Conformance is required, the contractor shall enter in capital letters “CERTIFICATE OF CONFORMANCE” as required by paragraph (b)(21)(iii) of this section.

* * * * *

5. Appendix F to Chapter 2 is amended by revising Part 7 to read as follows:

PART 7—DISTRIBUTION OF THE DD FORM 250-1

F-701 Distribution.

Follow the procedures at PGI F-701 for distribution of DD Form 250-1.

F-702 Corrected DD Form 250-1.

Follow the procedures at PGI F-702 when corrections to DD Form 250-1 are needed.

[FR Doc. E6-21515 Filed 12-18-06; 8:45 am]

BILLING CODE 5001-08-P